DEPARTMENT OF COMMERCE

International Trade Administration

[Application No. 84-33A12]

Export Trade Certificate of Review

ACTION: Notice of application for an amended Export Trade Certificate of Review for Northwest Fruit Exporters (NFE), application no. 84-33A12.

SUMMARY: The Secretary of Commerce, through the Office of Trade and Economic Analysis (OTEA) of the International Trade Administration, has received an application for an amended Export Trade Certificate of Review (Certificate). This notice summarizes the proposed application and seeks public comments on whether the Certificate should be issued.

FOR FURTHER INFORMATION CONTACT: Joseph Flynn, Director, OTEA, International Trade Administration, (202) 482-5131 (this is not a toll-free number) or email at etca@trade.gov.

SUPPLEMENTARY INFORMATION: Title III of the Export Trading Company Act of 1982 (15 U.S.C. 4001-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether a Certificate should be issued. If the comments include any privileged or confidential business information, it must be clearly marked and a nonconfidential version of the comments (identified as such) should be included. Any comments not marked as privileged or confidential business information will be deemed to be nonconfidential.

Written comments should be sent to ETCA@trade.gov. An original and two (2) copies should also be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 84-33A12.” A summary of the application follows.

Summary of the Application

Applicant: Northwest Fruit Exporters, 105 South 18th Street, Suite 105, Yakima, WA 98901.

Contact: Fred Scarlett, Manager, scarlett@nwhort.org.

Application No.: 84-33A12.

Date Deemed Submitted: August 16, 2022.

Proposed Amendment: Northwest Fruit Exporters seeks to amend its Certificate as follows:

1. Add the following companies as new Members of the Certificate within the meaning of section 325.2(l) of the Regulations (15 CFR 325.2(l)) for the following Export Product: fresh sweet cherries:

• Chuy's Cherries LLC, Mattawa, WA

• Columbia Fresh Packing LLC, Kennewick, WA

• Lateral Roots Farm, LLC, Wapato, WA

2. Change the names of the following Members:

• Chelan Fruit Cooperative (Chelan, WA) changes to Chelan Fruit (Chelan, WA)

• Manson Growers Cooperative (Manson, WA) changes to Manson Growers (Manson, WA)

3. Change the location of the following Member:

• Stadelman Fruit, L.L.C. (Milton-Freewater, OR, and Zillah, WA) changes to Stadelman Fruit, L.L.C. (Milton-Freewater, OR, Hood River, OR, and Zillah, WA)

4. Change the Export Product coverage for seven Members:

• Highland Fruit Growers, Inc. changes Export Product coverage from fresh apples to fresh apples and fresh sweet cherries (adding fresh sweet cherries)

• Piepel Premium Fruit Packing LLC changes Export Product coverage from fresh apples to fresh apples and fresh sweet cherries (adding fresh sweet cherries)

• Washington Fruit & Produce Co. changes Export Product coverage from fresh apples to fresh apples and fresh sweet cherries (adding fresh sweet cherries)

• Blue Star Growers, Inc. changes Export Product coverage from fresh apples and fresh pears to fresh pears (dropping fresh apples)

• Stadelman Fruit, L.L.C. changes Export Product coverage from fresh apples, fresh sweet cherries, and fresh pears to fresh apples and fresh pears (dropping fresh sweet cherries)

• AltaFresh L.L.C. dba Chelan Fresh Marketing changes Export Product coverage from fresh apples to fresh apples and fresh sweet cherries (adding fresh sweet cherries)

• Congdon Packing Co. L.L.C. changes Export Product coverage from fresh apples, and fresh pears to fresh apples, fresh sweet cherries, and fresh pears (adding fresh sweet cherries)

Northwest Fruit Exporter's proposed amendment of its Certificate would result in the following Membership list:

1. Allan Bros., Naches, WA

2. AltaFresh L.L.C. dba Chelan Fresh Marketing, Chelan, WA (for fresh apples and fresh sweet cherries)

3. Apple House Warehouse & Storage, Inc., Brewster, WA

4. Apple King, L.L.C., Yakima, WA

5. Auvil Fruit Co., Inc. dba Gee Whiz II, LLC, Orondo, WA

6. Baker Produce, Inc., Kennewick, WA

7. Blue Bird, Inc., Peshastin, WA

8. Blue Star Growers, Inc., Cashmere, WA (for fresh pears only)

9. Borton & Sons, Inc., Yakima, WA

10. Brewster Heights Packing & Orchards, LP, Brewster, WA

11. Chelan Fruit, Chelan, WA

12. Chiawana, Inc. dba Columbia Reach Pack, Yakima, WA

13. Chuy's Cherries LLC, Mattawa, WA (fresh sweet cherries)

14. CMI Orchards LLC, Wenatchee, WA

15. Columbia Fresh Packing LLC, Kennewick, WA (fresh sweet cherries)

16. Columbia Fruit Packers, Inc., Wenatchee, WA

17. Columbia Valley Fruit, L.L.C., Yakima, WA

18. Congdon Packing Co. L.L.C., Yakima, WA (for fresh apples, fresh sweet cherries, and fresh pears)

19. Cowiche Growers, Inc., Cowiche, WA

20. CPC International Apple Company, Tieton, WA

21. Crane & Crane, Inc., Brewster, WA

22. Custom Apple Packers, Inc., Quincy, and Wenatchee, WA

23. Diamond Fruit Growers, Inc., Odell, OR

24. Domex Superfresh Growers LLC, Yakima, WA

25. Douglas Fruit Company, Inc., Pasco, WA

26. Dovex Export Company, Wenatchee, WA

27. Duckwall Fruit, Odell, OR

28. E. Brown & Sons, Inc., Milton-Freewater, OR

29. Evans Fruit Co., Inc., Yakima, WA

30. E.W. Brandt & Sons, Inc., Parker, WA

31. FirstFruits Farms, LLC, Prescott, WA

32. Frosty Packing Co., LLC, Yakima, WA

33. G&G Orchards, Inc., Yakima, WA

34. Gilbert Orchards, Inc., Yakima, WA

35. Hansen Fruit & Cold Storage Co., Inc., Yakima, WA

36. Henggeler Packing Co., Inc., Fruitland, ID

37. Highland Fruit Growers, Inc., Yakima, WA (for fresh apples and fresh sweet cherries)

38. HoneyBear Growers LLC, Brewster, WA

39. Honey Bear Tree Fruit Co LLC, Wenatchee, WA

40. Hood River Cherry Company, Hood River, OR

41. JackAss Mt. Ranch, Pasco, WA

42. Jenks Bros Cold Storage & Packing, Royal City, WA

43. Kershaw Fruit & Cold Storage, Co., Yakima, WA

44. Lateral Roots Farm, LLC, Wapato, WA (fresh sweet cherries)

45. L & M Companies, Union Gap, WA

46. Legacy Fruit Packers LLC, Wapato, WA

47. Manson Growers, Manson, WA

48. Matson Fruit Company, Selah, WA

49. McDougall & Sons, Inc., Wenatchee, WA

50. Monson Fruit Co., Selah, WA

51. Morgan's of Washington dba Double Diamond Fruit, Quincy, WA

52. Northern Fruit Company, Inc., Wenatchee, WA

53. Olympic Fruit Co., Moxee, WA

54. Oneonta Trading Corp., Wenatchee, WA

55. Orchard View Farms, Inc., The Dalles, OR

56. Pacific Coast Cherry Packers, LLC, Yakima, WA

57. Piepel Premium Fruit Packing LLC, East Wenatchee, WA (for fresh apples and fresh sweet cherries)

58. Pine Canyon Growers LLC, Orondo, WA

59. Polehn Farms, Inc., The Dalles, OR

60. Price Cold Storage & Packing Co., Inc., Yakima, WA

61. Quincy Fresh Fruit Co., Quincy, WA

62. Rainier Fruit Company, Selah, WA

63. River Valley Fruit, LLC, Grandview, WA

64. Roche Fruit, Ltd., Yakima, WA

65. Sage Fruit Company, L.L.C., Yakima, WA

66. Smith & Nelson, Inc., Tonasket, WA

67. Stadelman Fruit, L.L.C., Milton-Freewater, OR, Hood River, OR, and Zillah, WA (for fresh apples and fresh pears only)

68. Stemilt Growers, LLC, Wenatchee, WA

69. Symms Fruit Ranch, Inc., Caldwell, ID

70. The Dalles Fruit Company, LLC, Dallesport, WA

71. Underwood Fruit & Warehouse Co., Bingen, WA

72. Valicoff Fruit Company Inc., Wapato, WA

73. Washington Cherry Growers, Peshastin, WA

74. Washington Fruit & Produce Co., Yakima, WA (for fresh apples and fresh sweet cherries)

75. Western Sweet Cherry Group, LLC, Yakima, WA

76. Whitby Farms, Inc. dba: Farm Boy Fruit Snacks LLC, Mesa, WA

77. WP Packing LLC, Wapato, WA

78. Yakima Fruit & Cold Storage Co., Yakima, WA

79. Zirkle Fruit Company, Selah, WA

Dated: August 25, 2022.
Joseph Flynn,
Director, Office of Trade and Economic Analysis, International Trade Administration, U.S. Department of Commerce.

[FR Doc. 2022-18674 Filed 8-29-22; 8:45 am]

BILLING CODE 3510-DR-P